DEPARTMENT OF COMMERCE

International Trade Administration

[A-533-823]

Silicomanganese From India: Final Results of Antidumping Duty Changed Circumstances Review

AGENCY: Enforcement and Compliance, International Trade Administration, Department of Commerce.

SUMMARY: On October 21, 2022, the U.S. Department of Commerce (Commerce) published the notice of initiation and preliminary results of changed circumstances reviews (CCR) of the antidumping duty (AD) order on silicomanganese from India. For these final results, Commerce continues to find that NAVA Limited (NAVA) is the successor-in-interest to Nava Bharat Ventures Limited (NBVL) in the context of the AD order on silicomanganese from India. Furthermore, NAVA is entitled to NBVL's AD cash deposit rate with respect to entries of subject merchandise in the above-referenced proceeding.

DATES: Applicable December 6, 2022.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On October 21, 2022, Commerce published the Initiation and Preliminary Results, finding that NAVA is the successor-in-interest to NBVL, and that it should be assigned the same AD cash deposit rate assigned to NBVL in the above-referenced proceeding.¹ In the Initiation and Preliminary Results, interested parties were provided an opportunity to comment regarding our preliminary findings. Commerce received no comments from interested parties.

¹ See Silicomanganese from India: Notice of Initiation and Preliminary Results of Changed Circumstances Review, 87 FR 64006 (October 21, 2022) (Initiation and Preliminary Results), and accompanying Preliminary Decision Memorandum.

Scope of the Order ²

² See Notice of Amended Final Determination of Sales at Less than Fair Value and Antidumping Duty Orders: Silicomanganese from India, Kazakhstan, and Venezuela, 67 FR 36149 (May 23, 2002) (Order).

The merchandise covered by the Order is all forms, sizes, and compositions of silicomanganese, except low-carbon silicomanganese, including silicomanganese briquettes, fines and slag. For a full description of the scope of the Order, see the Initiation and Preliminary Results.

Final Results of Changed Circumstances Review

For the reasons stated in the Initiation and Preliminary Results, and because we received no comments from interested parties to the contrary, Commerce continues to find that NAVA is the successor-in-interest to NBVL for AD purposes. As a result of this determination, NAVA is entitled to the same AD cash deposit rate as NBVL with respect to entries of subject merchandise in the above-noted proceeding.³

³ In accordance with this Federal Register notice, NAVA will receive the AD cash deposit rate assigned to NBVL under the Order.

Commerce will instruct U.S. Customs and Border Protection to suspend liquidation of all shipments of subject merchandise produced and/or exported by NAVA and entered, or withdrawn from warehouse, for consumption on or after the publication date of this notice in the Federal Register at the current AD cash deposit rate on silicomanganese in effect for NBVL. These cash deposit requirements shall remain in effect until further notice.

Notification to Interested Parties

This notice is published in accordance with sections 751(b)(1) and 777(i)(1) and (2) of the Tariff Act of 1930, as amended, and 19 CFR 351.216(e), 351.221(b), and 351.221(c)(3).

Dated: November 28, 2022.
Abdelali Elouaradia,
Deputy Assistant Secretary for Enforcement and Compliance.

[FR Doc. 2022-26448 Filed 12-5-22; 8:45 am]

BILLING CODE 3510-DS-P